DEPARTMENT OF COMMERCE

International Trade Administration

[C-570-938]

Citric Acid and Certain Citrate Salts From the People's Republic of China: Rescission of Countervailing Duty Administrative Review; 2015

AGENCY: Enforcement and Compliance, International Trade Administration, Department of Commerce.

SUMMARY: The Department of Commerce is rescinding the administrative review of the countervailing duty order on citric acid and certain citrate salts from the People's Republic of China (PRC) for the period of review January 1, 2015, through December 31, 2015, based on the timely withdrawal of the only request for review.

DATES: Effective October 20, 2016.

FOR FURTHER INFORMATION CONTACT: Alice Maldonado, Enforcement and Compliance, International Trade Administration, U.S. Department of Commerce, 1401 Constitution Avenue NW., Washington, DC 20230; telephone: (202) 482-4682.

SUPPLEMENTARY INFORMATION:

Background

On May 2, 2016, the Department published in the Federal Register a notice of “Opportunity to Request Administrative Review” of the countervailing duty order on citric acid and certain citrate salts (citric acid) from the PRC for the period January 1, 2015, through December 31, 2015.¹ In May 2016, the Department received a timely request, in accordance with section 751(a) of the Tariff Act of 1930, as amended (the Act), and 19 CFR 351.213(b), for an administrative review of this countervailing duty order from the Archer Daniels Midland Company, Cargill, Incorporated, and Tate & Lyle Ingredients Americas LLC (collectively, the petitioners).² On July 7, 2016, the Department published in the Federal Register a notice of initiation with respect to 18 individually-named companies or company groups.³

¹ See Antidumping or Countervailing Duty Order, Finding, or Suspended Investigation; Opportunity to Request Administrative Review, 81 FR 26206 (May 2, 2016).

² See letter requesting an administrative review from the petitioners, dated May 31, 2016.

³ See Initiation of Antidumping Duty Administrative Reviews, 81 FR 44260 (July 7, 2016).

On October 5, 2016, the petitioners timely withdrew their administrative review request.⁴

⁴ See the letter withdrawing request for an administrative review from the petitioners, dated October 5, 2016.

Rescission of Review

Pursuant to 19 CFR 351.213(d)(1), the Department will rescind an administrative review, in whole or in part, if a party that requested a review withdraws the request within 90 days of the date of publication of notice of initiation of the requested review. The petitioners withdrew their requests for review by the 90-day deadline. No other parties requested an administrative review of the order. Therefore, we are rescinding the administrative review of the countervailing duty order on citric acid from the PRC covering the period January 1, 2015, through December 31, 2015.

Assessment

The Department will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). The Department intends to issue appropriate assessment instructions directly to CBP 15 days after the date of publication of this notice in the Federal Register.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: October 13, 2016.
Christian Marsh,
Deputy Assistant Secretary for Antidumping and Countervailing Duty Operations.

[FR Doc. 2016-25429 Filed 10-19-16; 8:45 am]

BILLING CODE 3510-DS-P